FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than September 5, 2017.

A. Federal Reserve Bank of Kansas City (Dennis Denney, Assistant Vice President) 1 Memorial Drive, Kansas City, Missouri 64198-0001:

1. Equity Bancshares, Inc., Wichita, Kansas; to acquire 100 percent of the voting shares of Cache Holdings, Inc., parent of Patriot Bank, both of Tulsa, Oklahoma.

2. Equity Bancshares, Inc., Wichita, Kansas; to acquire, through its subsidiary, ENB Merger Sub, Inc., Oklahoma City, Oklahoma, 100 percent of the voting shares of Eastman National Bancshares, Inc., and thereby acquire The Eastman National Bank of Newkirk, both of Newkirk, Oklahoma.

In connection with this application, ENB Merger Sub, Inc., Oklahoma City, Oklahoma, has applied to become a bank holding company

3. National Bank Holdings Corporation, Greenwood Village, Colorado; to acquire 100 percent of the voting shares of Peoples, Inc., Lawrence, Kansas, and thereby indirectly acquire Peoples National Bank, Colorado Springs, Colorado, and Peoples Bank, Lawrence, Kansas.

Board of Governors of the Federal Reserve System, August 7, 2017.
Yao-Chin Chao,
Assistant Secretary of the Board.

[FR Doc. 2017-16908 Filed 8-10-17; 8:45 am]

BILLING CODE 6210-01-P